DEPARTMENT OF AGRICULTURE

Forest Service

Dakota Prairie Grasslands; North Dakota; Environmental Impact Statement for Greater Sage-Grouse Grasslands Plan Amendment

AGENCY: Forest Service, USDA.

ACTION: Notice of intent to prepare and environmental impact statement.

SUMMARY: In compliance with the National Environmental Policy Act of 1969, as amended (NEPA), the Federal Land Policy and Management act of 1976, as amended (FLPMA), and the Resources Planning Act of 1974, as amended by the National Forest Management Act of 1976 (NFMA), the Forest Service intends to prepare an environmental impact statement (EIS) to amend the Dakota Prairie Grasslands Land and Resource Management Plan (DPG LRMP). This notice is announcing the beginning of the scoping process to solicit public comments and identify issues relative to the greater sage-grouse. This analysis will be the basis of the record of decision.

DATES: Comments concerning the scope of the analysis must be received by July 7, 2014. The draft environmental impact statement is expected November 2014, and the final environmental impact statement is expected June 2015.

ADDRESSES: Send written comments to: Dennis Neitzke, Grasslands Supervisor, 1200 Missouri Avenue, Bismarck, ND 58504. Comments may also be sent via email to: comments-northern-dakota-prairie@fs.fed.us or via facsimile to: 701-989-7299.

FOR FURTHER INFORMATION CONTACT: For further information and/or to have your name added to our mailing list, contact Cristi Corey-Luse, Environmental Coordinator, phone 559-359-5608 or email ccoreyluse@fs.fed.us. Persons who use a telecommunications device for the deaf (TDD) may call the Federal Information Relay Service (FIRS) at 1-800-877-8339 to contact the above individual during normal business hours. The FIRS is available 24 hours a day, 7 days a week, to leave a message or question with the above individual. You will receive a replay during normal business hours. In all correspondence, please include your name, address, and organization name if you are commenting as a representative of an organization.

SUPPLEMENTARY INFORMATION: In March of 2010 the U.S. Fish and Wildlife Service (USFWS) published a “warranted, but precluded” Endangered Species Act-listing-petition decision for the greater sage-grouse. Inadequacy of regulatory mechanisms was identified as a significant factor in the USFWS finding on the petition to list the species. The USFWS concluded that existing regulatory mechanisms to protect greater sage-grouse, “. . . afford sufficient discretion to the decision makers as to render them inadequate to ameliorate the threats to the [greater sage-grouse].” The major threat in regards to actions authorized on national forest system and other public lands is habitat modification. Habitat modification on Federal lands includes threats from infrastructure (fences, powerlines, and roads), recreation, mining, energy development, grazing, fire, invasive species, noxious weeds, conifer encroachment, and climate change.

Purpose and Need for Action

The purpose of the project is to determine what management direction (that is, regulatory mechanisms) should be incorporated into the DPG LRMP to conserve, enhance, and/or restore sagebrush and associated habitats to contribute to the long-term viability of the greater sage-grouse. This is needed to address the recent “warranted, but precluded” ESA decision from the USFWS by addressing needed changes in the management and conservation of greater sage-grouse habitats on lands managed by the Dakota Prairie Grasslands within the State of North Dakota.

Proposed Action

The Forest Service is proposing to amend the DPG LRMP by adding to or changing some of the management direction (that is, regulatory mechanisms) that would reduce, eliminate, or minimize threats to the greater sage-grouse on National Forest System lands that are considered priority and general habitat for the greater sage grouse. A planning area map is provided in the scoping document (see “Scoping Process” subsection below).

Based on threats identified in the USFWS decision on the petition listing for the greater sage-grouse, the proposed management direction would address at a minimum the following resource areas and resource uses on national forest system lands: Recreation management, fire and fuels management, rangeland management, invasive species, rights-of-way management, special uses, transportation system and facilities management, minerals management (locatable, fluid, and saleable), habitat restoration/vegetation management, and renewable energy development.

Specific desired conditions, goals, objectives, standards, and guidelines amendments to the LRMP, although not yet developed, would focus on creating specific habitat objectives for the greater sage-grouse. These desired conditions, goals, objective, standards, and guidelines would relate to the following areas:

• Activity restricting seasonal time frames;

• Buffers of protection around important habitats;

• Vegetative cover requirements; and

• Mitigation requirements for predator perches.

The decisions based on this analysis may make changes in the lands available for oil and gas leasing, as well as changes in the stipulations applied to lands that are made available for leasing. There may also be changes to the lands determined suitable for linear rights-of-way corridors for powerlines and pipelines.

Any decisions will recognize valid existing rights. The decisions will be limited to making land use planning direction specific to the conservation of habitat of the greater sage-grouse on approximately 96,000 acres of habitat (66,000 of priority habitat and 30,000 of general habitat) on the Medora District of the Little Missouri Grassland.

Finally, the LRMP amendment would address the objectives identified in the USFWS Conservation Objectives Team report.

The purpose of the public scoping process is to determine relevant issues related to the conservation of the greater sage-grouse and its habitat that will influence the scope of the environmental analysis, including alternatives, and guide the process for developing the EIS.

As allowed at 36 CFR 219.17(b)(2), “. . . with respect to plans approved or revised under a prior planning regulation, including the transition provisions of the reinstated 2000 rule (36 CFR part 219, published at 36 CFR parts 200 to 299, revised as of July 1, 2010), plan amendments may be initiated under the provisions of the prior planning regulation for 3 years after May 9, 2012, and may be completed and approved under those provisions . . .”.

As allowed at 36 CFR 219.17(b)(2), the responsible official has opted to initiate and complete this proposed plan amendment consistent with transition provisions of the reinstated 2000 rule. Determination as to whether the amendment is significant or not significant will be based on Forest Service direction at the time of the decision. Based on current direction found in Forest Service Manual 1926.52, the amendment is expected to be not significant.

Possible Alternatives

Under the no-action alternative the LRMP would not be amended to incorporate new or change existing regulatory mechanisms. There are no other alternatives to the proposed action identified at this time.

Lead and Cooperating Agencies

The Forest Service is the lead agency, and has invited the BLM, North Dakota Game and Fish Department, USFWS, Natural Resources Conservation Service, Bowman-Slope Soil Conservation District, to participate as cooperating agencies. Other Federal, State, and local agencies that may be interested or affected by the Forest Service's decision on this proposal, may request or be requested by the Forest Service to participate as a cooperating agency also.

Responsible Official

The responsible official is Dennis Neitzke, Grasslands Supervisor, Dakota Prairie Grasslands, 1200 Missouri Avenue, Bismarck, ND 58504.

Nature of Decision To Be Made

Based on the analysis conducted and represented in the EIS and project record, the responsible official will decide whether or not to amend the LRMP as described in the proposed action, or in one of the alternatives to the proposed action, or by combining elements of the proposed action and alternatives to create a decision that best meets the purpose of conserving, enhancing, and/or restoring habitats to provide for the long-term viability of the greater sage-grouse.

Scoping Process

This notice of intent initiates the scoping process, which guides the development of the environmental impact statement. The scoping document is posted on the Dakota Prairie National Grasslands public Web site at: http://www.fs.usda.gov/dpg/. During the scoping period the Forest will solicit comments from interested parties and the public. It is important that reviewers provide their comments at such times and in such manner that they are useful to the Agency's preparation of the environmental impact statement. Therefore, comments should be provided prior to the close of the comment period and should clearly articulate the reviewer's concerns and contentions. Comments received in response to this solicitation, including names and addresses of those who comment, will be part of the public record for this proposed action. Comments submitted anonymously will be accepted and considered; however, the Forest Service would not be able to provide the respondent with subsequent environmental documents. This proposal has been listed on the Dakota Prairie Grasslands Schedule of Proposed Actions since May, 2014.

Early Notice of Importance of Public Participation in Subsequent Environmental Review

As required under 36 CFR 219.17(b)(2), this proposed plan amendment is subject to the pre-decisional administrative review process (“objection procedure”) set forth in 36 CFR Part 219 Subpart B. Only those individuals and entities who have submitted substantive formal comments related to the proposed plan amendment during opportunities for public comment may file an objection. Objections must be based on previously submitted substantive formal comments attributed to the objector, unless the objection concerns an issue that arises after the opportunities for formal comment (36 CFR 219.53). Comments are considered substantive when they are within the scope of the proposal, are specific to the proposal, have a direct relationship to the proposal, and include supporting reasons for the responsible official to consider (36 CFR 219.62). Formal comments received from an authorized representative(s) of an entity are considered those of the entity only. A member of an organization must submit substantive formal comments independently to be eligible to file an objection in an individual capacity (36 CFR 219.53(b)). Substantive formal comments must be written comments submitted to, or oral comments recorded by, the responsible official or designee during an opportunity for public participation and attributed to the individual or entity providing them (36 CFR 219.62). For this proposal, the opportunities for public participation are the 45-day-scoping-comment period announced by this notice of intent and the 90-day-comment period that begins when the Environmental Protection Agency publishes the notice of availability of the draft EIS in the Federal Register.

Dated: May 2, 2014.
Dennis D. Neitzke,
Grasslands Supervisor.

[FR Doc. 2014-11736 Filed 5-20-14; 8:45 am]

BILLING CODE P